NATIONAL AERONAUTICS AND SPACE ADMINISTRATION

[Notice 01-007]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: January 22, 2001.

FOR FURTHER INFORMATION CONTACT: Rob Padilla, Patent Counsel, Ames Research Center, Mail Code 202A-3, Moffett Field, CA 94035; Tel. (650) 604-5104; Fax (650) 604-7486.

NASA Case No. ARC-14231-2: Body Sensing System;

NASA Case No. ARC-14231-3: Multimodality Instrument for Tissue Characterization;

NASA Case No. ARC-14254-1: Waterproofing of Low Density Aerogels;

NASA Case No. ARC-14418-1: En Route Spacing System and Method;

NASA Case No. ARC-14494-1: Characterization of Bioelectric Potentials.

Dated: January 11, 2001.
Edward A. Frankle,
General Counsel.

[FR Doc. 01-1767 Filed 1-19-01; 8:45 am]

BILLING CODE 7510-01-U